DEPARTMENT OF EDUCATION

Notice of Submission for OMB Review; Institute of Education Sciences; National Assessment of Educational Progress (NAEP) 2013 Wave II (Main NAEP Core, Reading, Mathematics, TEL, SD, ELL, and Special Studies)

SUMMARY: The National Assessment of Educational Progress (NAEP) is a federally authorized survey of student achievement at grades 4, 8, and 12 in various subject areas, such as mathematics, reading, writing, science, U.S. history, civics, geography, economics, and the arts.

DATES: Interested persons are invited to submit comments on or before July 19, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04874. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Assessment of Educational Progress (NAEP) 2013 Wave II (Main NAEP Core, Reading, Mathematics, TEL, SD, ELL, and Special Studies).

OMB Control Number: 1850-0790.

Type of Review: Revision.

Total Estimated Number of Annual Responses: 285,527.

Total Estimated Number of Annual Burden Hours: 106,602.

Abstract: The NAEP is a federally authorized survey of student achievement at grades 4, 8, and 12 in various subject areas, such as mathematics, reading, writing, science, U.S. history, civics, geography, economics, and the arts. In the current legislation that reauthorized NAEP (Pub. L. 107-279), Congress mandated the collection of national education survey data through a national assessment program. The 2013 Wave 2 submittal contains (a) the grades 4, 8, and 12 core (demographic) student background questions, (b) the pilot grades 4, 8, and operational grade 12 reading and mathematics subject-specific student background questions, (c) the pilot grade 8 Technology and Engineering Literacy (TEL) background questions, (d) the grade 4, 8, and 12 reading and mathematics special study background questions, (e) the grade 4 and 8 teacher and the grade 4, 8, and 12 school questionnaires, and (f) Students with Disabilities (SD) and English Language Learner (ELL) worksheets and instructions.

Dated: June 14, 2012.
Darrin A. King,
Director, Information Collection Clearance Division, Privacy, Information and Records Management Services, Office of Management.

[FR Doc. 2012-14898 Filed 6-18-12; 8:45 am]

BILLING CODE 4000-01-P